DEPARTMENT OF THE INTERIOR

National Park Service

[NPS-WASO-NRNHL-1211-9044; 2200-3200-665]

National Register of Historic Places; Notification of Pending Nominations and Related Actions

Nominations for the following properties being considered for listing or related actions in the National Register were received by the National Park Service before December 2, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, (202) 371-6447. Written or faxed comments should be submitted by January 11, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

COLORADO

Jefferson County

Denver and Intermountain Railroad Interurban No. 25, W. 6th Ave. & Kipling St., Lakewood, 11001016

MISSOURI

Jackson County

Bancroft School, 4300 Tracy Ave., Kansas City, 11001017

Lowe and Campbell Sporting Goods Building, 1509-13 Baltimore Ave., Kansas City, 11001018

Old Town Historic District (Boundary Increase IV), Roughly bounded by E. 2nd, Locust, & Walnut Sts. & E. Missouri Ave., Kansas City, 11001019

Monroe County

Farmers and Merchants Bank Building, 201-207 S. Main St., Monroe City, 11001020

St. Louis Independent City

Cote Brilliante Avenue in The Ville Historic District, (The Ville, St. Louis, Missouri MPS AD) 4200 W. blk. of Cote Brilliante Ave. & 1700 blk. of Annie Malone Dr., St. Louis (Independent City), 11001021

Marshall School Neighborhood in The Ville Historic District, (The Ville, St. Louis, Missouri MPS AD) Parts of 4300 blks. of Aldine & Cote Brilliante Aves. & 1500 & 1700 blks. of Billups Ave., St. Louis (Independent City), 11001022

St. Ferdinand Avenue in The Ville Historic District, (The Ville, St. Louis, Missouri MPS AD) 4200 W. blk. of St. Ferdinand Ave., St. Louis (Independent City), 11001023

NEW YORK

Onondaga County

People's African Methodist Episcopal Zion Church, 711 E. Fayette St., Syracuse, 11001024

Saratoga County

Garnsey, Nathan, House, 1453 NY 146, Rexford, 11001025

OREGON

Josephine County

Oregon Caves Historic District (Boundary Increase), 19000 Caves Hwy., Cave Junction, 11001028

WISCONSIN

Eau Claire County

Chambers, Pearl and Eva, House, 1615 State St., Eau Claire, 11001027

[FR Doc. 2011-33022 Filed 12-23-11; 8:45 am]

BILLING CODE 4312-51-P